DEPARTMENT OF COMMERCE

Foreign-Trade Zones Board

[B-45-2019]

Foreign-Trade Zone (FTZ) 38—Spartanburg County, South Carolina; Authorization of Production Activity; ZF Chassis Systems Duncan, LLC (Automotive Suspension Systems), Duncan, South Carolina

On July 23, 2019, ZF Chassis Systems Duncan, LLC submitted a notification of proposed production activity to the FTZ Board for its facility within FTZ 38, in Duncan, South Carolina.

The notification was processed in accordance with the regulations of the FTZ Board (15 CFR part 400), including notice in the Federal Register inviting public comment (84 FR 36886, July 30, 2019). On November 20, 2019, the applicant was notified of the FTZ Board's decision that no further review of the activity is warranted at this time. The production activity described in the notification was authorized, subject to the FTZ Act and the FTZ Board's regulations, including Section 400.14.

Dated: November 20, 2019.
Andrew McGilvray,
Executive Secretary.

[FR Doc. 2019-25652 Filed 11-25-19; 8:45 am]

BILLING CODE 3510-DS-P